DEPARTMENT OF COMMERCE

International Trade Administration

[C-570-942]

Certain Kitchen Shelving and Racks From the People's Republic of China: Extension of Time Limit for Preliminary Results of Countervailing Duty Administrative Review

AGENCY: Import Administration, International Trade Administration, Department of Commerce.

FOR FURTHER INFORMATION CONTACT: Patricia Tran or Jennifer Meek, AD/CVD Operations, Office 1, Import Administration, International Trade Administration, U.S. Department of Commerce, 14th Street and Constitution Avenue, NW., Washington, DC 20230; telephone: (202) 482-1503 and (202) 482-2778, respectively.

SUPPLEMENTARY INFORMATION:

Background

On October 28, 2010, and November 29, 2010, the Department of Commerce (“the Department”) published notices of initiation of the administrative review of the countervailing duty order on certain kitchen appliance shelving and racks from the People's Republic of China, covering the review period January 7, 2009, through December 31, 2009. See Initiation of Antidumping and Countervailing Duty Administrative Reviews, 75 FR 66349 (October 28, 2010) and Initiation of Antidumping and Countervailing Duty Administrative Reviews, 75 FR 73036 (November 29, 2010).¹ See also Initiation of Antidumping and Countervailing Duty Administrative Reviews; Correction, 75 FR 69054 (November 10, 2010). In the October 28, 2010 notice, we initiated on five companies requested by Nashville Wire Products Inc. and SSW Holding Company, Inc. (collectively “Petitioners”); after receiving further information from Petitioners, we initiated on two additional companies requested by Petitioners on November 29, 2010.

¹ The Department notes that only the period of review (“POR”) for the antidumping duty administrative review was included in the October 28, 2010 notice, see generally 75 FR 69059. All notices concerning the countervailing duty review of the order apply to the POR referenced in the initiation notices and this notice—January 7, 2009 through December 31, 2009.

The current deadline for the preliminary results of this administrative review is June 2, 2011.

Extension of Time Limit for Preliminary Results

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

The full initiation of this review was delayed by one month because we required additional information from Petitioners concerning their review requests for particular companies. After the case was fully initiated, we determined that we needed to obtain quantity and value information for respondent selection purposes because we could not rely on U.S. Customs and Border Protection data, as is our usual practice. In this instance, the Harmonized Tariff Schedule of the United States categories including subject merchandise are overly broad and contain other products. See Memorandum from Joseph Shuler, International Trade Compliance Analyst of AD/CVD Operations, Office 1, to Susan H. Kuhbach, Director of AD/CVD Operations, Office 1, “Selection of Respondents for the Countervailing Duty Administrative Review of Certain Kitchen Appliance Shelving and Racks from the People's Republic of China” dated January 25, 2011. Given these delays, we do not have sufficient time to adequately analyze all questionnaire responses by the mandatory respondents, in addition to a new subsidy allegation filed by Petitioners, before the preliminary results due date. Consequently, we have determined that it is not practicable to complete this review within the originally anticipated time limit (i.e., by June 2, 2011). Therefore, the Department is extending the time limit for completion of the preliminary results by 120 days to not later than September 30, 2011, in accordance with section 751(a)(3)(A) of the Act and 19 CFR 351.213(h)(2).

We are issuing and publishing this notice in accordance with sections 751(a)(3)(A) and 777(i)(1) of the Act.

Dated: May 9, 2011.
Christian Marsh,
Deputy Assistant Secretary for Antidumping and Countervailing Duty Operations.

[FR Doc. 2011-11845 Filed 5-12-11; 8:45 am]

BILLING CODE 3510-DS-P